NUCLEAR REGULATORY COMMISSION

[Docket No. 70-3073]

Notice of Consideration of Amendment Request for Cushing Refinery Site, Cushing, Oklahoma and Opportunity for a Hearing

The U.S. Nuclear Regulatory Commission (NRC) is considering issuance of an amendment to Materials License SNM-1999 issued to Kerr-McGee Corporation (the licensee) for its Cushing Refinery site in Cushing, Oklahoma. The licensee requested, in a letter dated April 7, 2000, that NRC amend Materials License SNM-1999 to remove several “tie-down” and license conditions. The licensee considers these conditions either redundant or no longer necessary as a result of NRC's issuance of License Amendments Nos. 10 and 11. License Amendment No. 10, issued August 23, 1999, authorized the licensee to remediate radioactive contamination. License Amendment No. 11, issued November 3, 1999, named Ms. Karen Morgan as the Cushing Refinery site Radiation Safety Officer. The licensee indicated that removal of redundant requirements would reduce potential confusion caused by these redundancies.

If the NRC approves this license amendment, the approval will be documented in an amendment to NRC license SNM-1999. However, before approving the proposed amendment, the NRC will need to make the findings required by the Atomic Energy Act of 1954, as amended, and NRC's regulations. These findings will be documented in a Safety Evaluation Report and an Environmental Assessment.

NRC hereby provides notice that this is a proceeding on an application for an amendment of a license falling within the scope of Subpart L, “Informal Hearing Procedures for Adjudication in Materials Licensing Proceedings,” of NRC's rules of practice for domestic licensing proceedings in 10 CFR Part 2. Pursuant to § 2.1205(a), any person whose interest may be affected by this proceeding may file a request for a hearing in accordance with § 2.1205(d). A request for a hearing must be filed within thirty (30) days of the date of publication of this Federal Register notice. The request for a hearing must be filed with the Office of the Secretary either:

1. By delivery to Secretary, U.S. Nuclear Regulatory Commission, One White Flint North, 11555 Rockville Pike, Rockville, MD 20852-2738, between 7:45 a.m. and 4:15 p.m. Federal workdays; or

2. By mail, telegram, or facsimile addressed to the Secretary, U.S. Nuclear Regulatory Commission, Washington, DC, 20555-0001. Attention: Rulemakings and Adjudications Staff.

In accordance with 10 CFR § 2.1205(f), each request for a hearing must also be served, by delivering it personally or by mail, to:

1. The applicant, Kerr-McGee Corporation, Kerr-McGee Center, PO Box 25861, Oklahoma City, Oklahoma, Attention: Mr. Jeff Lux, and;

2. The NRC staff, by delivery to the Executive Director for Operations, U.S. Nuclear Regulatory Commission, One White Flint North, 11555 Rockville Pike, Rockville, MD 20852-2738, between 7:45 a.m. and 4:15 p.m. Federal workdays, or by mail, addressed to the Executive Director for Operations, U.S. Nuclear Regulatory Commission, Washington, DC 20555-0001.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and

4. The circumstance establishing that the request for a hearing is timely in accordance with § 2.1205(d).

FOR FURTHER INFORMATION: The application for amendment and supporting documentation are available for inspection at NRC's Public Electronic Reading Room on the NRC Web site http://www.nrc.gov/NRC/ADAMS/index.html. Questions with respect to this action should be referred to Stewart Brown, Decommissioning Branch, Division of Waste Management, Office of Nuclear Material Safety and Safeguards, U.S. Nuclear Regulatory Commission, Washington, DC 20555-0001. Telephone: (301) 415-6605. Fax.: (301) 415-5397.

Dated at Rockville, Maryland, this 24th day of July, 2000.
For the Nuclear Regulatory Commission.
Robert A. Nelson,
Acting Chief, Decommissioning Branch, Division of Waste Management, Office of Nuclear Material Safety and Safeguards.

[FR Doc. 00-19244 Filed 7-28-00; 8:45 am]

BILLING CODE 7590-01-P